DEPARTMENT OF COMMERCE

International Trade Administration

[A-351-602, A-588-602, A-583-605, A-549-807, A-570-814]

Certain Carbon Steel Butt-Weld Pipe Fittings From Brazil, Japan, Taiwan, Thailand, and the People's Republic of China: Continuation of the Antidumping Duty Orders

AGENCY: Enforcement and Compliance, International Trade Administration, Department of Commerce.

SUMMARY: As a result of the determinations by the Department of Commerce (Commerce) and the U.S. International Trade Commission (ITC) that revocation of the antidumping duty (AD) orders on certain carbon steel butt-weld pipe fittings (CSBW pipe fittings) from Brazil, Japan, Taiwan, Thailand, and the People's Republic of China (China) would likely lead to a continuation or recurrence of dumping, and material injury to an industry in the United States, Commerce is publishing a notice of continuation of the AD orders.

DATES: Applicable February 11, 2022.

FOR FURTHER INFORMATION CONTACT: Claudia Cott or Minoo Hatten, AD/CVD Operations, Office I, Enforcement and Compliance, International Trade Administration, U.S. Department of Commerce, 1401 Constitution Avenue NW, Washington, DC 20230; telephone: (202) 482-4270 or (202) 482-1690, respectively.

SUPPLEMENTARY INFORMATION:

Background

On December 17, 1986, Commerce published in the Federal Register the AD orders on CSBW pipe fittings from Brazil and Taiwan. On February 10, 1987, Commerce published the AD order on CSBW pipe fittings from Japan and on July 6, 1992, the AD orders on CSBW from Thailand and China.¹ On July 1, 2021, Commerce initiated,² and the ITC instituted,³ the sunset reviews of the Orders, pursuant to section 751(c) of the Tariff Act of 1930, as amended (the Act).

¹ See Antidumping Duty Order; Certain Carbon Steel Butt-Weld Pipe Fittings from Brazil, 51 FR 45152 (December 17, 1986) (Brazil Order); Antidumping Duty Order; Certain Carbon Steel Butt-Weld Pipe Fittings from Taiwan, 51 FR 45152 (December 17, 1986) (Taiwan Order); Antidumping Duty Order: Certain Carbon Steel Butt-Weld Pipe Fittings from Japan, 52 FR 4167 (February 10, 1987) (Japan Order); Antidumping Duty Order; Certain Carbon Steel Butt-Weld Pipe Fittings from Thailand, 57 FR 29702 (July 6, 1992) (Thailand Order); Antidumping Duty Order and Amendment to the Final Determination of Sales at Less Than Fair Value; Certain Carbon Steel Butt-Weld Pipe Fittings from the People's Republic of China, 57 FR 29702 (July 6, 1992) (China Order) (collectively, Orders).

² See Initiation of Five-Year (Sunset) Reviews, 86 FR 35071 (July 1, 2021).

³ See Carbon Steel Butt-Weld Pipe Fittings from Brazil, China, Japan, Taiwan, Thailand; Institution of Five-Year Reviews, 86 FR 35133 (July 1, 2021).

As a result of its reviews, Commerce determined, pursuant to sections 751(c)(1) and 752(c) of the Act, that revocation of the Orders on CSBW pipe fittings from Brazil, Japan, Taiwan, Thailand, and China would likely lead to continuation or recurrence of dumping. Commerce, therefore, notified the ITC of the magnitude of the margins of dumping likely to prevail should the Orders be revoked.⁴

⁴ See Certain Carbon Steel Butt-Weld Pipe Fittings from Brazil, Japan, Taiwan, Thailand, and the People's Republic of China: Final Results of the Expedited Sunset Reviews of the Antidumping Duty Orders, 86 FR 51869 (September 17, 2021), and accompanying Issues and Decision Memorandum.

On February 7, 2022, the ITC published its determination that revocation of the Orders would likely lead to a continuation or recurrence of material injury to an industry in the United States within a reasonably foreseeable time, pursuant to sections 751(c) and 752(a) of the Act.⁵

⁵ See Carbon Steel Butt-Weld Pipe Fittings from Brazil, China, Japan, Taiwan, Thailand; Determination, Inv. Nos. 731-TA-308-310 and 520-521 (Fifth Review), 87 FR 6893 (February 7, 2022), see also USITC Pub. 5276 (February 2022).

Scope of the Orders

Brazil: The merchandise covered by the Brazil Order consists of certain carbon steel butt-weld type fittings, other than couplings, under 14 inches in diameter, whether finished or unfinished, that have been formed in the shape of elbows, tees, reducers, caps, etc., and, if forged, have been advanced after forging. These advancements may include any one or more of the following: Coining, heat treatment, shot blasting, grinding, die stamping or painting. Such merchandise was classifiable under Tariff Schedules of the United States Annotated (TSUSA) item number 610.8800. These imports are currently classified under subheading 7307.93.30 of the Harmonized Tariff Schedule of the United States (HTSUS). The HTSUS subheading is provided for convenience and customs purposes. The written product description remains dispositive.

Japan: The merchandise covered by the Japan Order consists of certain carbon steel butt-weld type fittings, other than couplings, under 14 inches in inside diameter, whether finished or unfinished, that have been formed in the shape of elbows, tees, reducers, caps, etc., and if forged, have been advanced after forging. These advancements may include any one or more of the following: Coining, heat treatment, shot blasting, grinding, die stamping or painting. Such merchandise was classifiable under TSUSA item number 610.8800. These imports are currently classifiable under the HTSUS item number 7307.93.30. Induction pipe bends classifiable under item 7307.93.30 which have at one or both ends tangents that equal or exceed 12 inches in length are excluded from the scope. The HTSUS subheading is provided for convenience and customs purposes. The written product description remains dispositive.

Taiwan: The merchandise covered by the Taiwan Order consists of certain carbon steel butt-weld type fittings, other than couplings, under 14 inches in inside diameter, whether finished or unfinished, that have been formed in the shape of elbows, tees, reducers, and caps, and if forged, have been advanced after forging. These advancements may include one or more of the following: Coining, heat treatment, shot blasting, grinding, die stamping or painting. Commerce clarified that the so-called sprink-let is within the scope of the order (57 FR 19602). Such merchandise was classifiable under TSUSA item number 610.8800. These imports are currently classifiable under the HTSUS item number 7307.93.3000. The HTSUS subheading is provided for convenience and for customs purposes. The written product description remains dispositive.

China and Thailand: The merchandise covered by the China Order and the Thailand Order consists of certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel butt-weld pipe fittings are currently classified under subheading 7307.93.30 of the HTSUS. The HTSUS subheading is provided for convenience and customs purposes. The written product description remains dispositive.⁶

⁶ See Orders.

Continuation of the Orders

As a result of the determinations by Commerce and the ITC that revocation of the Orders would likely lead to a continuation or recurrence of dumping, and material injury to an industry in the United States, pursuant to section 751(d)(2) of the Act and 19 CFR 351.218(a), Commerce hereby orders the continuation of the Orders. U.S. Customs and Border Protection will continue to collect AD cash deposits at the rates in effect at the time of entry for all imports of subject merchandise.

The effective date of the continuation of these Orders will be the date of publication in the Federal Register of this notice of continuation. Pursuant to section 751(c)(2) of the Act and 19 CFR 351.218(c)(2), Commerce intends to initiate the next five-year (sunset) reviews of these Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

These five-year sunset reviews and this notice are in accordance with section 751(c) of the Act and published pursuant to section 777(i)(1) of the Act and 19 CFR 351.218(f)(4).

Dated: February 7, 2022.
Lisa W. Wang,
Assistant Secretary for Enforcement and Compliance.

[FR Doc. 2022-02923 Filed 2-10-22; 8:45 am]

BILLING CODE 3510-DS-P